DEPARTMENT OF LABOR

Employment and Training Administration

[TA-W-39,592]

Viceroy Gold Corporation, Including Workers of MK Gold Company, Searchlight, NV; Amended Certification Regarding Eligibility To Apply for Worker Adjustment Assistance

In accordance with section 223 of the Trade Act of 1974 (19 U.S.C. 2273) the Department of Labor issued a Certification of Eligibility to Apply for Worker Adjustment Assistance on August 7, 2001, applicable to workers of Viceroy Gold Corporation, Castle Mountain Mine, Searchlight, Nevada. The notice was published in the Federal Register on August 23, 2001 (66 FR 44378).

At the request of the petitioners, the Department reviewed the certification for workers of the subject firm. New information shows that employees of MK Gold Corporation, Searchlight, Nevada were employed by Viceroy Gold Corp., Castle Mountain Mine to produce gold and silver in dore' bar form at the Searchlight, Nevada location of the subject firm. Worker separations occurred at MK Gold Company as a result of workers separations at Viceroy Gold Corporation, Castle Mountain Mine.

Based on these findings, the Department is amending the certification to include workers of MK Gold Company, Searchlight, Nevada employed at Viceroy Gold Corporation, Castle Mountain Mine, Searchlight, Nevada.

The intent of the Department's certification is to include all workers of Viceroy Gold Corporation, Castle Mountain Mine who were adversely affected by imports.

The amended notice applicable to TA-W-39,592 is hereby issued as follows:

All workers of Viceroy Gold Corporation, Castle Mountain Mine, Searchlight, Nevada and all workers of MK Gold Company, Searchlight, Nevada engaged in employment related to the production of gold and silver in dore' bar form at Viceroy Gold Corporation, Castle Mountain Mine, Searchlight, Nevada who became totally or partially separated from employment on or after June 20, 2000, through August 7, 2003, are eligible to apply for adjustment assistance under Section 223 of the Trade Act of 1974.

Signed at Washington, DC, this 23rd day of April, 2002.
Linda G. Poole,
Certifying Officer, Division of Trade Adjustment Assistance.

[FR Doc. 02-15849 Filed 6-21-02; 8:45 am]

BILLING CODE 4510-30-P